DEPARTMENT OF AGRICULTURE

Forest Service

Yakutat Resource Advisory Committee

AGENCY: Forest Service, USDA.

ACTION: Notice of meeting.

SUMMARY: The Yakutat Resource Advisory Committee will meet in Yakutat, Alaska. The purpose of the meeting is to continue business of the Yakutat Resource Advisory Committee. The committee was formed to carry out the requirements of the Secure Rural Schools and Selt-Determination Act of 2000. The agenda for this meeting is to review submitted project proposals and consider recommending projects for funding. Project proposals were due by March 19, 2010 to be considered at this meeting.

DATES: The meeting will be held March 30, 2010 from 6-9 p.m.

ADDRESSES: The meeting will be held at the Kwaan Conference Room, 712 Ocean Cape Drive, Yakutat, Alaska. Send written comments to Lee A. Benson, c/o Forest Service, USDA, P.O. Box 327, Yakutat, AK 99689, (907) 784-3359 or electronically to labenson@fs.fed.us.

FOR FURTHER INFORMATION CONTACT: Lee A. Benson, District Ranger and Designated Federal Official, Yakutat Ranger District, (907) 784-3359.

SUPPLEMENTARY INFORMATION: The meeting is open to the public. Council discussion is limited to Forest Service staff and Council members. However, persons who wish to bring resource projects or other Resource Advisory Committee matters to the attention of the Council may file written statements with the Council staff before or after the meeting. Public input sessions will be provided and individuals who made written requests by March 30, 2010 will have the opportunity to address the Council at those sessions.

Dated: February 19, 2010.
Lee A. Benson,
District Ranger, Yakutat Ranger District, Tongass National Forest.

[FR Doc. 2010-4691 Filed 3-5-10; 8:45 am]

BILLING CODE 3410-11-M